DEPARTMENT OF THE INTERIOR

[CA-330-1220-AB]

King Range National Conservation Area, California

AGENCY: Bureau of Land Management, Interior.

ACTION: Proposed establishment of supplementary rules.

SUMMARY: The Arcata Field Office is proposing the establishment of the following Supplementary Rules for the King Range National Conservation Area as provided for under title 43 Code of Federal Regulations subpart 8365.1-6. The implementation of fees is authorized under the Land and Water Conservation Fund Act of 1965 as Amended, and the Omnibus Consolidated Rescissions Act of 1996 as Amended (Pub. L. 104-134).

A. Camping Closure

BLM administered lands within the following areas are closed to camping (overnight occupancy) outside of developed campsites: Public lands within 500 feet of the perimeter of the Mattole Campground.

B. Overnight Trail Head Parking Fees

An overnight trailhead parking fee will be implemented at the Mattole and Black Sands Beach Recreation Sites to meet the goals described in the supplementary information below. The fee will be set at $2 per night (any future fee changes would be published locally prior to implementation) and will be in effect from ½ hour after sunset to ½ hour before sunrise. There will be no fees for day use.

C. Overnight Camping Fees

Campground use fees of $5.00 per night are established for the Mattole and Honeydew Creek Campgrounds (any future fee changes would be published locally prior to implementation). Campsite occupancy is limited to two vehicles and 8 persons per site. Fees are in effect from ½ hour after sunset to ½ hour before sunrise at the Mattole Campground, and from ½ hour after sunset until 8:00 a. m. at the Honeydew Creek Campground.

D. Black Sands Beach, Nighttime Use

This site is closed to all overnight camping. Nighttime occupancy is limited to vehicle parking for off-site backcountry use. For the purposes of this rule, off-site means traveling north of Telegraph Creek for camping/backpacking or other overnight uses. Use of the site itself is limited to 30 minutes for unloading/loading purposes during the nighttime restriction period. The nighttime restriction is in place from ½ hour after sunset to ½ hour before sunrise. This rule does not affect day-time use.

EFFECTIVE DATE: These Supplementary Rules will be effective on July 1, 2000.

Comment Period

The BLM is requesting comments concerning these supplemental rules. The comment period will be open for 30 days from the date of publication of this notice.

FOR FURTHER INFORMATION CONTACT: Lynda Roush, Bureau of Land Management, Arcata Field Office, 1695 Heindon Rd., Arcata, CA 95521. Phone (707) 825-2300.

SUPPLEMENTARY INFORMATION: The above supplementary rules are being proposed for the following purposes:

A. Camping Closure

The closure is intended to reduce resource damage and fire danger in the riparian area and beach dunes surrounding the Mattole Campground. It will also allow for enforcement of the site capacity limits at the Mattole Campground by requiring that visitors hike into the backcountry or travel to other available campgrounds when this site is full. Currently, visitors are impacting undeveloped areas immediately adjacent to the campground so they can camp nearby and use the facilities.

B. Overnight Parking Fees

The overnight parking fees will be implemented as a management tool for encouraging distribution of overnight use away from the crowded Black Sands Beach and Mattole trailheads, and to discourage large nighttime group gatherings at these trailheads. Neither facility is designed to accommodate large nighttime group events, and this use is not compatible with the goals of the King Range Management Program (1974) and King Range Visitor Services Plan (1992). All parking fees will be used within the King Range to cover maintenance costs of the sites and recreation opportunities that they support. Mattole Campground users will not have to pay the parking fee for vehicles (up to two) parked at their campsite.

C. Camping Fees

Camping fees are established at Honeydew Creek and Mattole Campgrounds to cover a portion of the maintenance costs; to be commensurate with fees charged at other public and private camping areas in the region; and for use as a management tool to discourage nighttime group gatherings in the campgrounds. These nighttime group events are not compatible with the purpose of the site development and management as an overnight camping facility, nor with the goals of the King Range Management Program (1974) and King Range Visitor Services Plan (1992).

D. Black Sands Beach Nighttime Use

The Black Sands Beach Recreation Site is designed to be a backcountry trailhead parking area and day use facility. This rule is intended to limit nighttime use of the trailhead facilities to a parking area for backcountry use only. The parking facilities are located immediately adjacent to a residential area, and nighttime use of the area as a destination would cause unreasonable noise within the neighborhood. This restriction would not affect overnight backcountry users who park at the site, and will also not affect day use.

Violation of any of the above rules is punishable by a fine not to exceed $1000 and/or imprisonment not to exceed 12 months (43 CFR 8360.0-7).

Daniel E. Averill,
Acting Arcata Field Manager.

[FR Doc. 00-13134 Filed 5-24-00; 8:45 am]

BILLING CODE 4310-40-P